DEPARTMENT OF ENERGY

Federal Energy Regulatory Commission

[Docket No. CP02-60-006]

Trunkline LNG Company, LLC; Notice of Tariff Filing

June 23, 2005.

Take notice that on June 16, 2005, Trunkline LNG Company, LLC (Trunkline LNG), PO Box 4967, Houston, Texas 77210-4967, tendered for filing as part of its FERC Gas Tariff, Second Revised Volume No. 1-A, the original and revised tariff sheets listed in Appendix A hereto, to become effective July 20, 2005.

Trunkline LNG states that the purpose of this filing is to commence new services under Rate Schedules FTS-2 and ITS-2, on an interim basis, that will utilize certain vaporization facilities that are part of Trunkline LNG's Amended Expansion Project approved by the Commission on August 27, 2002, December 18, 2002, and October 27, 2003 in Docket Nos. CP02-60-000, CP02-60-001 and CP02-60-003, respectively.

Any person desiring to intervene or to protest this filing must file, on or before the below listed comment date, in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of § 154.210 of the Commission's regulations (18 CFR 154.210) on or before the below listed comment date. Anyone filing an intervention or protest must serve a copy of that document on the Applicant. Anyone filing an intervention or protest on or before the intervention or protest date need not serve motions to intervene or protests on persons other than the Applicant.

The Commission strongly encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the web site that enables subscribers to receive e-mail notification when a document is added to a subscribed docket(s). For assistance with any FERC Online service, please e-mail FERCOnlineSupport@ferc.gov, or call (866) 208-3676 (toll free). For TTY, call (202) 502-8659.

Comment Date: July 1, 2005.

Magalie R. Salas,
Secretary.

Appendix A—Trunkline LNG Company, LLC; Tariff Sheets Filed June 16, 2005; Proposed To Be Effective July 20, 2005; All to FERC Gas Tariff

Second Revised Volume No. 1-A

First Revised Sheet No. 1

Third Revised Sheet No.2

Fifth Revised Sheet No. 5

Original Sheet No. 30

Original Sheet No. 31

Original Sheet No. 32

Original Sheet No. 33

Original Sheet No. 34

Original Sheet No. 35

Original Sheet No. 36

Sheet Nos. 37-49

First Revised Sheet No. 70

First Revised Sheet No. 71

First Revised Sheet No. 78

First Revised Sheet No. 89

First Revised Sheet No. 123

First Revised Sheet No. 125

First Revised Sheet No. 166

Original Sheet No. 182

Original Sheet No. 183

Original Sheet No. 184

Original Sheet No. 185

Original Sheet No. 186

Original Sheet No. 187

Original Sheet No. 188

Original Sheet No. 189

Original Sheet No. 190

Original Sheet No. 191

Original Sheet No. 192

Original Sheet No. 193

Original Sheet No. 194

Original Sheet No. 195

Original Sheet No. 196

[FR Doc. E5-3415 Filed 6-29-05; 8:45 am]

BILLING CODE 6717-01-P